DEPARTMENT OF DEFENSE

Office of the Secretary

[Docket ID DOD-2011-OS-0106]

Privacy Act of 1974; System of Records

AGENCY: Office of the Secretary of Defense, Department of Defense (DoD).

ACTION: Notice to add a system of records.

SUMMARY: The Office of the Secretary of Defense proposes to add a system of records to its inventory of record systems subject to the Privacy Act of 1974 (5 U.S.C. 552a), as amended.

DATES: This proposed action would be effective without further notice on November 3, 2011 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on September 29, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 29, 2011.
Aaron Siegel,
Alternate OSD Federal Register Liaison Officer, Department of Defense.

DODEA 29

System Name:

Department of Defense Education Activity Non-DoD Schools Program.

System Location:

Department of Defense Education Activity (DoDEA) Headquarters office, 4040 North Fairfax Drive, Arlington, VA 22203-1635.

Categories of Individuals Covered By The System:

Students receiving non-DoD schooling funded by DoDEA and their sponsors and tutors.

Categories of Records In The System:

Student Record Files. Demographic data includes student name, date of birth, grade, school attended, school year, special education services including tutorial and supplemental services, if applicable tuition paid by DoDEA, and applicable transportation payments.

Tutor Record Files. Includes name, address, telephone number, and e-mail address.

School Registration Files. Sponsor and/or registration forms reflecting sponsor name, Social Security Number (SSN) (for reimbursement purposes thru the Defense Finance and Accounting Service (DFAS), sponsor's grade/rank, local address, sponsoring agency including address, telephone number and e-mail address, agency certification of sponsors/dependents, sponsors' Permanent Change of Station (PCS) orders, birth certificates, court documents that prove student's relationship to the sponsor, and similar files.

Authority For Maintenance of the System:

20 U.S.C. 926(b), Tuition and Assistance When Schools Unavailable, 10 U.S.C. 1605, Benefits for Certain Employees Assigned Outside the United States; and E.O. 9397 (SSN), as amended.

Purpose(s):

This information is used to track obligations and invoices for transportation, tuition, and tutoring payments and to determine eligibility and enrollment by grade for all students who receive non-DoD schooling funded by DoD. This information is also used as a management tool for statistical analysis, tracking, reporting, evaluating program effectiveness and conducting research.

Routine Uses of Records Maintained in the System, Including Categories of Users and the Purposes of Such Uses:

In addition to those disclosures generally permitted under 5 U.S.C. 552a(b) of the Privacy Act of 1974, these records may specifically be disclosed outside the DoD as a routine use pursuant to 5 U.S.C. 552a(b)(3) as follows:

To a non-DoD school, upon request of the school, when the child is enrolled in the school or receiving services from the school at DoD expense, so long as the disclosure is for purposes related to the student's enrollment or receipt of services.

To state and local social service offices in response to law enforcement inquiries and investigations, and child placement/support proceedings.

The DoD ‘Blanket Routine Uses’ set forth at the beginning of the Office of the Secretary of Defense (OSD) compilation of systems of records notices also apply to this system.

Policies and practices for storing, retrieving, accessing, retaining, and disposing of records in the system:

Storage:

Paper file folders and electronic storage media.

Retrievability:

Records may be retrieved by name, address, school year. Student records are also retrieved by grade, sponsor's name, or school name.

Safeguards:

Access is provided on a “need-to-know” basis and to authorized authenticated personnel only. The Non-DoD School Program system database requires the user to utilize a two-factor authentication and a system password. Paper records are maintained in controlled access areas. Program access, assignment and monitoring are the responsibility of DoDEA headquarters functional managers.

Retention and Disposal:

Documents and electronic records on enrollment and registration, school registration forms, parental correspondence, other notes and related information and similar records are destroyed five (5) years after transfer, withdrawal, or death of student.

Tutor record files are destroyed six (6) years and three (3) months after period covered by account.

Records of students not approved for the program are destroyed one year after end of school year.

System Manager(s) and Address:

Chief, Policy and Legislation Office, Department of Defense Education Activity Headquarters, 4040 North Fairfax Drive, Arlington, VA 22203-1635.

Notification Procedure:

Individuals seeking to determine whether information about themselves is contained in this system of records should address written inquiries to the Privacy Act Officer, Department of Defense Education Activity, 4040 North Fairfax Drive, Arlington, VA 22203-1365.

Requests should contain the individual's name, address, and school year. Requests for student records should also include student's full name under which enrolled at time of attendance, sponsor's SSN (for verification), name of school, and year of graduation or last date of attendance, daytime telephone number, and address record should be mailed.

Record Access Procedures:

Individuals seeking access to records about themselves contained in this system of records should address written inquiries to the Privacy Act Officer, Department of Defense Education Activity, 4040 North Fairfax Drive, Arlington, VA 22203-1364.

Requests should contain the individual's name, address, and school year. Requests for student records should also include student's full name under which enrolled at time of attendance, sponsor's SSN (for verification), name of school, and year of graduation or last date of attendance, daytime telephone number, and address record should be mailed. The request should also contain the name and number of this system of records and be signed.

Contesting Record Procedures:

The OSD rules for accessing records, for contesting contents and appealing initial agency determinations are published in OSD Administrative Instruction 81; 32 CFR part 311; or may be obtained from the systems manager.

Record source categories:

Parents, legal guardians, non-DoD school, School Liaison Officer, other educational facilities, military commanders, and installation activities.

Exemptions Claimed for the System:

None.

[FR Doc. 2011-25550 Filed 10-4-11; 8:45 am]

BILLING CODE 5001-06-P